DEPARTMENT OF THE INTERIOR

Bureau of Land Management

[WY-100-06-1310-DB]

Notice of Meeting of the Pinedale Anticline Working Group

AGENCY: Bureau of Land Management, Interior.

ACTION: Emergency cancelation of public meeting.

SUMMARY: In accordance with the Federal Land Policy and Management Act (1976) and the Federal Advisory Committee Act (1972), the U.S. Department of the Interior, Bureau of Land Management (BLM) Pinedale Anticline Working Group (PAWG) was planned to meet in Pinedale, Wyoming, for a business meeting. Due to lack of PAWG member availability, this meeting has been cancelled.

DATES: The PAWG will not meet May 16, 2005. A PAWG tour has been scheduled for June 20. This tour is open to the public, but there is limited seating. Please RSVP with Matt Anderson (contact information below).

FOR FURTHER INFORMATION CONTACT: Matt Anderson, BLM/PAWG Liaison, Bureau of Land Management, Pinedale Field Office, 432 E. Mills St., P.O. Box 738, Pinedale, WY 82941; 307-367-5328.

SUPPLEMENTARY INFORMATION: The Pinedale Anticline Working Group (PAWG) was authorized and established with release of the Record of Decision (ROD) for the Pinedale Anticline Oil and Gas Exploration and Development Project on July 27, 2000. The PAWG advises the BLM on the development and implementation of monitoring plans and adaptive management decisions as development of the Pinedale Anticline Natural Gas Field proceeds for the life of the field.

Dated: April 28, 2006.
Dennis Stenger,
Field Office Manager.

[FR Doc. E6-6792 Filed 5-4-06; 8:45 am]

BILLING CODE 4310-22-P